DEPARTMENT OF COMMERCE

International Trade Administration

[A-588-852]

Notice of Extension of Time for the Preliminary Results of the Antidumping Duty New Shipper Review: Structural Steel Beams from Japan

AGENCY: Import Administration, International Trade Administration, Department of Commerce.

ACTION: Notice of an extension of time for the preliminary results of the antidumping duty new shipper review of structural steel beams from Japan.

SUMMARY: On February 16, 2001, the Department of Commerce (“Department”) published a notice of initiation of an antidumping duty new shipper review of structural steel beams from Japan. The Department is extending the time limit for the preliminary results of the new shipper review, which covers the period February 11, 2000 through November 30, 2000.

EFFECTIVE DATE: June 18, 2001.

FOR FURTHER INFORMATION CONTACT: Juanita H. Chen or Robert Bolling, Import Administration, International Trade Administration, U.S. Department of Commerce, 1401 Constitution Avenue, NW., Washington, DC 20230; telephone 202-482-0409 and 202-482-3434, respectively.

SUPPLEMENTARY INFORMATION:

The Applicable Statute and Regulations

Unless otherwise indicated, all citations to the Tariff Act of 1930, as amended (“Act”), are references to the provisions effective January 1, 1995, the effective date of the amendments made to the Act by the Uruguay Round Agreements Act. In addition, unless otherwise indicated, all citations to the Department's regulations are to the regulations codified at 19 C.F.R. part 351 (2000).

Extension of Time

On January 31, 2001, pursuant to a request from Yamato Kogyo Co., Ltd., the Department initiated this antidumping duty new shipper review of the antidumping duty order on structural steel beams from Japan. See Initiation of New Shipper Antidumping Duty Review: Structural Steel Beams from Japan, 66 FR 10668 (February 16, 2001). Under section 751(a)(2)(B)(iv) of the Act, the Department may extend the deadline for completion of the preliminary results of a new shipper review from 180 days after the date on which the review is initiated to 300 days if it concludes that the case is extraordinarily complicated. The Department has concluded that this case is extraordinarily complicated. See Memorandum from Edward C. Yang to Joseph A. Spetrini (June 5, 2001).

Therefore, in accordance with section 751(a)(2)(B)(iv) of the Act, the Department is extending the time limit for the preliminary results by 120 days until November 27, 2001.

Dated: June 12, 2001.
Edward C. Yang,
Acting Deputy Assistant Secretary, AD/CVD Enforcement Group III.

[FR Doc. 01-15323 Filed 6-15-01; 8:45 am]

BILLING CODE 3510-DS-P